DEPARTMENT OF LABOR

Mine Safety and Health Administration

Petition for Modification of Application of Existing Mandatory Safety Standards

AGENCY: Mine Safety and Health Administration, Labor.

ACTION: Notice.

SUMMARY: This notice is a summary of a petition for modification submitted to the Mine Safety and Health Administration (MSHA) by 3M Company.

DATES: All comments on the petition must be received by MSHA's Office of Standards, Regulations, and Variances on or before May 19, 2025.

ADDRESSES: You may submit comments identified by Docket No. MSHA-2025-0039 by any of the following methods:

1. Federal eRulemaking Portal: https://www.regulations.gov. Follow the instructions for submitting comments for MSHA-2025-0039.

2. Fax: 202-693-9441.

3. Email: petitioncomments@dol.gov.

4. Regular Mail or Hand Delivery: MSHA, Office of Standards, Regulations, and Variances, Room C3522, 200 Constitution Ave. NW, Washington, DC 20210.

Attention: S. Aromie Noe, Director, Office of Standards, Regulations, and Variances. Persons delivering documents are required to check in at the receptionist's desk. Individuals may inspect copies of the petition and comments during normal business hours at the address listed above. Before visiting MSHA in person, call 202-693-9455 to make an appointment.

FOR FURTHER INFORMATION CONTACT: S. Aromie Noe, Office of Standards, Regulations, and Variances at 202-693-9440 (voice), Petitionsformodification@dol.gov (email), or 202-693-9441 (fax). [These are not toll-free numbers.]

SUPPLEMENTARY INFORMATION: Section 101(c) of the Federal Mine Safety and Health Act of 1977 and Title 30 of the Code of Federal Regulations (CFR) part 44 govern the application, processing, and disposition of petitions for modification.

I. Background

Section 101(c) of the Federal Mine Safety and Health Act of 1977 (Mine Act) allows the mine operator or representative of miners to file a petition to modify the application of any mandatory safety standard to a coal or other mine if the Secretary of Labor determines that:

1. An alternative method of achieving the result of such standard exists which will at all times guarantee no less than the same measure of protection afforded the miners of such mine by such standard; or

2. The application of such standard to such mine will result in a diminution of safety to the miners in such mine.

In addition, sections 44.10 and 44.11 of 30 CFR establish the requirements for filing petitions for modification.

II. Petition for Modification

Docket Number: M-2025-003-M.

Petitioner: 3M Company, 18750 Minnesota Road, Corona, CA 92881.

Mine: 3M Corona Plant, MSHA ID No. 04-00191, located in Riverside County, California.

Regulation Affected: 30 CFR 56.13020, Use of compressed air.

Modification Request: The petitioner requests a modification of 30 CFR 56.13020 to implement a clothes cleaning booth process that has been jointly developed with and successfully tested by the National Institute for Occupational Safety and Health (NIOSH). The process utilizes controlled compressed air for the purpose of cleaning miners' dust laden clothing.

The petitioner states that:

(a) Contaminated worker clothing can be a major contributor to increased employee dust exposure based on data obtained from NIOSH.

(b) The petitioner wants to install three clothes cleaning booths at the 3M Corona Plant.

(c) The clothes cleaning process uses a regulated compressed air nozzle manifold at less than 30 pounds per square inch to blow dust from a worker's clothing. The process is performed in an enclosed booth, capturing the dust and then delivering it to a stack located outside the plant.

(d) The booth is under negative pressure with air moving downward away from the worker's breathing zone and no dust escapes to contaminate the work environment or other workers.

(e) The worker entering the booth is required to wear full indirect vented safety goggles, hearing protection, and a half mask respirator.

(f) No significant safety or health concerns have been identified because the eyes are protected by full seal goggles; the skin is protected by work clothes; hearing is protected by plugs or muffs; the lungs are protected by a respirator; and air is limited to 30 pounds per square inch, which is the Occupational Safety and Health Administration (OSHA) limit for cleaning purposes.

(g) Air monitoring has shown minimal to no respirable dust contamination inside the respirator during this process.

(h) Testing showed no increase in respirable dust levels anywhere inside the plant.

The petitioner proposes the following alternative method:

(a) Only miners trained in the operation of the NIOSH-tested clothes cleaning booth process shall be permitted to use the process.

(b) The petitioner shall incorporate clothes cleaning booth process training into their 30 CFR part 46 training plan.

(c) Miners entering the booth shall wear, at a minimum, eye protection in standard use (or safety glasses if using a powered air purifying respirator (PAPR)) within the plant, ear plugs or muffs for hearing protection, and respiratory protection. Respiratory protection means a full-face or half-mask respirator that meets or exceeds the minimum requirements of 30 CFR parts 56, 57, 60, 70, 71, 72, 75, and 90.

(d) The NIOSH-tested clothes cleaning booth process shall have a caution sign indicating that the use of respiratory protection, hearing protection, and safety goggles (or safety glasses if using a PAPR) are required before entering the booth.

(e) Air pressure through the spray manifold shall be limited to 30 pounds per square inch.

(f) The air spray manifold shall consist of 2″ square quarter inch hot rolled steel tubing, capped at the base, actuated by an electrically controlled ball valve at the top, and provide a yield strength safety factor of more than 20 when compared to the 30 psig operating pressure.

(g) The air spray manifold shall contain 27 total nozzles of which 26 will be Spraying Systems Co. Nozzle No. AA727-23, 18.4 SCFM at 30 psig. The 27th and lowermost nozzle shall be Spraying System Co. Nozzle No. AA707-23, 19.2 SCFM at 30 psig.

(h) The uppermost spray nozzle shall be located at a height of not more than 56 inches. This places the nozzle height at shoulder height for the 50th percentile male U.S. worker according to “Ergonomics—How to Design for Ease and Efficiency,” 2nd Edition, Kroemer, K.H.E., Kroemer, H.B., Kroemer-Elbert, K.E., Prentice Hall, NJ, 2001. Those miners with shoulder height less than the 50th percentile male shall utilize the mechanical air spray deflector, which is quick, effective, and easy to use.

(i) Spray nozzles have been recessed into the manifold, which is designed to eliminate the possibility of incidental contact with the air nozzles during utilization of the clothes cleaning process.

(j) Airflow through the manifold during the cleaning cycle shall occur only if the measured differential pressure on the exhaust system and pressure on the main airline are within proper operating ranges. If at any time either the differential pressure or line pressure falls outside preset limits, the cleaning cycle shall automatically stop via an electrical interlock system.

(k) Airflow through the clothes cleaning booth shall be sufficient to maintain negative pressure during use of the clothes cleaning system in order to prevent contamination of the environment outside of the booth.

(l) The air receiver tank supplying air to the manifold system shall be of sufficient volume to permit not less than 20 seconds of continuous cleaning time.

(m) Airflow through the booth shall be in the downward direction, thereby moving contaminants away from the miner's breathing zone.

(n) Miners entering the NIOSH-tested clothes cleaning booth shall examine the valves and nozzle for damage or malfunction and ensure that the door is fully closed before opening the air valve. Any defects shall be repaired prior to the booth being used.

(o) The petitioner shall ensure that periodic maintenance checks are performed in accordance with the NIOSH recommendations contained within the “Clothes Cleaning Process Instruction Manual.”

The miners at 3M Corona Plant are represented by a representative of miners. A copy of the petition for modification was presented to the representative of miners on February 28, 2025. The petition was also posted at the mine on February 28, 2025.

The petitioner asserts that the alternative method proposed will at all times guarantee no less than the same measure of protection afforded the miners under the mandatory standard.

Song-ae Aromie Noe,
Director, Office of Standards, Regulations, and Variances.

[FR Doc. 2025-06721 Filed 4-17-25; 8:45 am]

BILLING CODE 4520-43-P